DEPARTMENT OF COMMERCE

International Trade Administration

[C-489-806]

Certain Pasta From Turkey: Final Results of Countervailing Duty Administrative Review; 2010

AGENCY: Import Administration, International Trade Administration, Department of Commerce.

SUMMARY: On August 3, 2012, the Department of Commerce (“the Department”) published in the Federal Register its preliminary results of administrative review of the countervailing duty order on certain pasta from Turkey for the period January 1, 2010, through December 31, 2010. We received no comments on those preliminary results and we continue to determine that Marsan Gida Sanayi ve Ticaret A.Ş. (“Marsan”), Birlik Pazarlama Sanayi ve Ticaret A.Ş. (“Birlik”), and Bellini Gida Sanayi A.Ş. (“Bellini”) received de minimis countervailable subsidies during the period of review.¹

¹ We have also assigned a rate to Istanbul Gida Dis Ticaret A.Ş. (“Istanbul Gida”), which is cross-owned with Birlik and Bellini and produced the subject merchandise during the period of review. See Certain Pasta From Turkey: Preliminary Results of Countervailing Duty Administrative Review, 77 FR 46386 (August 3, 2012) (“Preliminary Results”) at 46387.

DATES: Effective Date: November 21, 2012.

FOR FURTHER INFORMATION CONTACT: David Layton or Christopher Siepmann, AD/CVD Operations, Office 1, Import Administration, International Trade Administration, U.S. Department of Commerce, 14th Street and Constitution Avenue NW., Washington, DC 20230; telephone: (202) 482-0371 and (202) 482-7958, respectively.

SUPPLEMENTARY INFORMATION:

Background

The Department published the preliminary results of this administrative review on August 3, 2012. See Preliminary Results.

We invited interested parties to file comments following the release of the Preliminary Results. No comments were received.

Period of Review

The period of review (“POR”) for which we are measuring subsidies is from January 1, 2010, through December 31, 2010.²

² While the initiation notice correctly identified the period of review as January 1, 2010 through December 31, 2010, we note that our extension of the time limit for the preliminary results incorrectly identified the period of review as January 1, 2011 through December 31, 2011. See Certain Pasta From Turkey: Extension of Time Limit for the Preliminary Results of the Countervailing Duty Administrative Review, 77 FR 11065 (February 24, 2012).

Scope of Order

The merchandise subject to the order is pasta. The product is currently classified under the Harmonized Tariff Schedule of the United States (“HTS”) item numbers 1902.19.20. Although the HTS numbers are provided for convenience and customs purposes, the written product description, available in Notice of Countervailing Duty Order: Certain Pasta from Turkey, 61 FR 38546 (July 24, 1996), remains dispositive.

Final Results of Review

We have made no changes to our findings announced in the Preliminary Results. See Preliminary Results; see also Memorandum from Christopher Siepmann, International Trade Compliance Analyst to Susan Kuhbach, Office Director, “Preliminary Results Calculation Memorandum for Marsan Gida Sanayi ve Ticaret A.Ş. (“Marsan”), Birlik Pazarlama Sanayi ve Ticaret A.Ş. (“Birlik”), Bellini Gida Sanayi A.Ş. (“Bellini”), and Marsa Yag Sanayi ve Ticaret A.Ş. (“Marsa Yag”)” (July 27, 2012).

For the period January 1, 2010, through December 31, 2010, we find the following ad valorem subsidy rates:

Exporter/manufacturer | Net subsidy rate
Marsan Gida Sanayi ve Ticaret A.Ş | 0.15 (de minimis).
Istanbul Gida Dis Ticaret A.Ş./Birlik Pazarlama Sanayi ve Ticaret A.Scedil;./Bellini Gida Sanayi A.Ş | 0.28 (de minimis).

Marsan's final cash deposit rate is a “combination rate” pursuant to 19 CFR 351.107(b). It applies only to subject merchandise exported by Marsan and produced by Birlik and/or Bellini.

Assessment Rates

Because Marsan, Birlik, Bellini and Istanbul Gida received de minimis countervailable subsidies during the POR, the Department will instruct U.S. Customs and Border Protection (“CBP”) to liquidate without regard to countervailing duties shipments of subject merchandise (a) exported by Marsan and produced by Birlik and/or Bellini, or (b) exported by Istanbul Gida, Birlik or Bellini, and entered, or withdrawn from warehouse, for consumption from January 1, 2010, through December 31, 2010.

For all other combinations or companies, as appropriate, that were not reviewed, the Department will direct CBP to assess countervailing duties on all entries between January 1, 2010, and December 31, 2010, at the rates in effect at the time of entry.

Cash Deposit Instructions

Because Marsan, Birlik, Bellini and Istanbul Gida have de minimis countervailable subsidy rates, the Department will instruct CBP to continue to suspend liquidation of entries, but to collect no cash deposits of estimated countervailing duties for the combination and companies described above on all shipments of the subject merchandise that are entered, or withdrawn from warehouse, for consumption on or after the date of publication of the final results of this administrative review.

Also, for all other combinations or companies, we will instruct CBP to collect cash deposits of estimated countervailing duties at the most recent company-specific or all-others rate applicable to the company. The cash deposit rates for all companies not covered by this review are not changed by the results of this review.

Administrative Protective Order

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Tariff Act of 1930, as amended.

Dated: November 14, 2012.
Ronald K. Lorentzen,
Acting Assistant Secretary for Import Administration.

[FR Doc. 2012-28304 Filed 11-20-12; 8:45 am]

BILLING CODE 3510-DS-P